FEDERAL COMMUNICATIONS COMMISSION

FCC To Hold Open Commission Meeting; Friday, October 17, 2014

October 10, 2014.

The Federal Communications Commission will hold an Open Meeting on the subjects listed below on Friday, October 17, 2014. The meeting is scheduled to commence at 10:30 a.m. in Room TW-C305, at 445 12th Street SW., Washington, DC.

Item number | Bureau | Subject
1 | WIRELESS TELECOMMUNICATIONS | TITLE: Acceleration of Broadband Deployment by Improving Wireless Facilities Sitting Policies (WT Docket Nos. 13-238); Acceleration of Broadband Deployment: Expanding the Reach and Reducing the Cost of Broadband Deployment by Improving Policies Regarding Public Rights of Way and Wireless Facilities Siting (WC Docket No. 11-59); and 2012 Biennial Review of Telecommunications Regulations (WT Docket 13-32). SUMMARY: The Commission will consider a Report and Order that takes critical steps to promote the deployment of wireless infrastructure necessary to provide the public with ubiquitous, advanced wireless broadband services.
2 | OFFICE OF ENGINEER & TECHNOLOGY AND WIRELESS TELECOMMUNICATIONS | TITLE: Use of Spectrum Bands above 24 GHz for Mobile Radio Services; Amendment of the Commission's Rules Regarding the 37.0-38.6 GHz and 38.6-40.0 GHz Bands (ET Docket No. 95-183); Implementation of Section 309(j) of the Communications Act—Competitive Bidding, 37.0-38.6 GHz and 38.6-40.0 GHz Bands (PP Docket No. 93-253); Petition for Rulemaking of the Fixed Wireless Communications Coalition to Create Service Rules for the 42-43.5 GHz Band. SUMMARY: The Commission will consider a Notice of Inquiry to explore innovative developments in the use of spectrum above 24 GHz for mobile wireless services, and how the Commission can facilitate the development and deployment of those technologies.
3 | OFFICE OF ENGINEERING & TECHNOLOGY | TITLE: Expanding the Economic and Innovation Opportunities of Spectrum Through Incentive Auctions (GN Docket No. 12-268); Office of Engineering and Technology Releases and Seeks Comment on Updated OET-69 Software (ET Docket No. 13-26) and Office of Engineering and Technology Seeks to Supplement the Incentive Auction Proceeding Record Regarding Potential Interference Between Broadcast Television and Wireless Services (ET Docket No. 14-14). SUMMARY: The Commission will consider a Second Report and Order and Further Notice of Proposed Rulemaking to address aggregate broadcaster-to-broadcaster interference and the methodology for predicting interference between broadcast and wireless operations in the same or adjacent channels in nearby markets during and following the Incentive Auction.
4 | WIRELINE COMPETITION | TITLE: Rates for Interstate Inmate Calling Services (WC Docket No. 12-375). SUMMARY: The Commission will consider a Second Further Notice of Proposed Rulemaking to comprehensively reform interstate and intrastate inmate calling services (ICS) to ensure just, reasonable and fair rates and charges for consumers as well as providers.
5 | PUBLIC SAFETY & HOMELAND SECURITY | TITLE: 911 Outage Presentation. SUMMARY: The Commission will hear a presentation regarding an inquiry into a major 911 service outage that affected seven states in April 2014. The presentation will include findings from a report on the causes and effects of the outage as well as recommendations on actions the industry, the Commission and state governments can take to strengthen the reliability and resiliency of 911 services as the nation transitions to Next Generation 911.

* * * * *

Consent Agenda

The Commission will consider the following subjects listed below as a consent agenda and these items will not be presented individually:

Item number | Bureau | Subject
1 | MEDIA | TITLE: Ernesto Bustos, Licensee of Station WTBL-CD, Lenoir, North Carolina.
|  | SUMMARY: The Commission will consider a Memorandum Opinion and Order concerning an Application for Review filed by Ernesto Bustos seeking review of a Forfeiture Order issued by the Media Bureau's Video Division.
2 | MEDIA | TITLE: KM LPTV of Chicago-13, LLC, Licensee of Station WOCK-CD, Chicago, Illinois.
|  | SUMMARY: The Commission will consider a Memorandum Opinion and Order concerning an Application for Review filed by KM LPTV Chicago-13, LLC seeking review of a Forfeiture Order issued by the Media Bureau's Video Division.
3 | MEDIA | TITLE: KM LPTV of Milwaukee, LLC, Licensee of Station WMKE-CA, Milwaukee, Wisconsin.
|  | SUMMARY: The Commission will consider a Memorandum Opinion and Order concerning an Application for Review filed by KM LPTV of Milwaukee, LLC seeking review of a Forfeiture Order issued by the Media Bureau's Video Division.
4 | MEDIA | TITLE: Holy Family Oratory of St. Philip Neri, Application for Construction Permit for a New Noncommercial Educational Station at Bedford, Michigan.
|  | SUMMARY: The Commission will consider a Memorandum Opinion and Order concerning an Application for Review filed by First Pentecostal Church of God in Christ seeking review of a decision by the Media Bureau.
5 | MEDIA | TITLE: Amendment of Section 73.202(b), Table of Allotments, FM Broadcast Stations (Corona de Tucson, Sierra Vista, Tanque Verde, and Vail, Arizona; Animas, Lorsdburg, and Virden, New Mexico).
|  | SUMMARY: The Commission will consider a Memorandum Opinion and Order concerning an Application for Review filed by CCR-Sierra Vista IV, LLC seeking review of a Media Bureau reallotment decision.
6 | MEDIA | TITLE: Clifford Brown Jazz Foundation, Application for a New LPFM Station at Berkeley, California.
|  | SUMMARY: The Commission will consider a Memorandum Opinion and Order concerning an Application for Review filed by Clifford Brown Jazz Foundation seeking review of an application dismissal by the Media Bureau.
7 | MEDIA | TITLE: Timothy C. Cutforth, Application for License to Cover Construction of DKJJL(AM), Pine Bluffs, Wyoming, Request for Special Temporary Authority.
|  | SUMMARY: The Commission will consider a Memorandum Opinion and Order concerning an Application for Review filed by Timothy C. Cutforth seeking review of an application dismissal by the Media Bureau.
8 | MEDIA | TITLE: MSG Radio, Inc., Assignor and WIAC FM, Inc., Assignee, Application for Assignment of License for WTOK-FM, San Juan, Puerto Rico.
|  | SUMMARY: The Commission will consider a Memorandum Opinion and Order concerning an Application for Review filed by RAAD Broadcasting Corporation seeking review of an assignment application grant by the Media Bureau.
9 | MEDIA | TITLE: Christian Music Network, Application for a New NCE FM Station at Gloucester, Massachusetts.
|  | SUMMARY: The Commission will consider a Memorandum Opinion and Order concerning an Application for Review filed by Christian Music Network seeking review of the Media Bureau's dismissal of its application for a new noncommercial educational FM station at Gloucester, Massachusetts.
10 | MEDIA | TITLE: Church Planters of America, Permit to Modify the Licensed Facilities of Station WGHW(FM), Lockwoods Folly Town, NC and Craven Community College, Permit to Modify the Licensed Facilities of WZNB(FM), New Bern, North Carolina.
|  | SUMMARY: The Commission will consider a Memorandum Opinion and Order concerning an Application for Review filed by Craven Community College seeking review of a Media Bureau decision.
11 | MEDIA | TITLE: Dallas Ingemunson, Assignor and Jennifer Beckman, Asignee, Application for Assignment of Permit for New (AM) Broadcast Station at Casa Grande, Arizona.
|  | SUMMARY: The Commission will consider a Memorandum Opinion and Order concerning an Application for Review filed by Jennifer Beckman seeking review of a Media Bureau assignment application conditional grant.
12 | MEDIA | TITLE: Susquehanna Radio Corp. and Whitley Media, LLC, Application for Consent to Assignment of License and Cancellation of License for DKTDK(FM), Sanger, Texas.
|  | SUMMARY: The Commission will consider a Memorandum Opinion and Order concerning an Application for Review jointly filed by Whitley Media, LLC and North Texas Radio Group, LP seeking review of a Media Bureau assignment application dismissal.
13 | MEDIA | TITLE: Word of God Fellowship, Inc., Cancellation of the License for Television Station DKCBU, Price, Utah.
|  | SUMMARY: The Commission will consider a Memorandum Opinion and Order concerning an Application for Review filed by Word of God Fellowship, Inc. seeking review of a Media Bureau license cancellation.

The meeting site is fully accessible to people using wheelchairs or other mobility aids. Sign language interpreters, open captioning, and assistive listening devices will be provided on site. Other reasonable accommodations for people with disabilities are available upon request. In your request, include a description of the accommodation you will need and a way we can contact you if we need more information. Last minute requests will be accepted, but may be impossible to fill. Send an email to: fcc504@fcc.gov or call the Consumer & Governmental Affairs Bureau at 202-418-0530 (voice), 202-418-0432 (tty).

Additional information concerning this meeting may be obtained from Meribeth McCarrick, Office of Media Relations, (202) 418-0500; TTY 1-888-835-5322. Audio/Video coverage of the meeting will be broadcast live with open captioning over the Internet from the FCC Live Web page at www.fcc.gov/live.

For a fee this meeting can be viewed live over George Mason University's Capitol Connection. The Capitol Connection also will carry the meeting live via the Internet. To purchase these services, call (703) 993-3100 or go to www.capitolconnection.gmu.edu.

Copies of materials adopted at this meeting can be purchased from the FCC's duplicating contractor, Best Copy and Printing, Inc. (202) 488-5300; Fax (202) 488-5563; TTY (202) 488-5562. These copies are available in paper format and alternative media, including large print/type; digital disk; and audio and video tape. Best Copy and Printing, Inc. may be reached by email at FCC@BCPIWEB.com.

Federal Communications Commission.
Marlene H. Dortch,
Secretary.

[FR Doc. 2014-25557 Filed 10-27-14; 8:45 am]

BILLING CODE 6712-01-P